DEPARTMENT OF ENERGY

Energy Information Administration

Agency Information Collection Proposed Extension

AGENCY: U.S. Energy Information Administration (EIA), Department of Energy (DOE).

ACTION: Notice and request for comments.

SUMMARY: EIA invites public comment on the proposed three-year extension, with change, to Form EIA-63C Densified Biomass Fuel Report as required under the Paperwork Reduction Act of 1995. The report is part of EIA's comprehensive energy data program. Form EIA-63C collects monthly data on the manufacture, shipment, exports, energy characteristics, and sales of densified biomass fuels and other densified biomass fuel products from facilities that manufacture densified biomass fuel products (pellet fuels), for energy applications.

DATES: EIA must receive all comments on this proposed information collection no later than April 22, 2024. If you anticipate any difficulties in submitting your comments by the deadline, contact the person listed in the ADDRESSES section of this notice as soon as possible.

ADDRESSES: Send comments to Patricia Hutchins by email at patricia.hutchins@eia.gov.

FOR FURTHER INFORMATION CONTACT: Connor Murphy, EI-23, U.S. Energy Information Administration, telephone 1-800-342-4872 or (202) 287-5982, email Connor.Murphy@eia.gov. The form and instructions are available at https://www.eia.gov/survey/#eia-63.

SUPPLEMENTARY INFORMATION: This information collection request contains:

(1) OMB No.: 1905-0209;

(2) Information Collection Request Title: Densified Biomass Fuel Report;

(3) Type of Request: Three-year extension with change;

(4) Purpose: Form EIA-63C is part of EIA's comprehensive energy data program. The survey collects information on the manufacture, shipment, exports, energy characteristics, and sales of pellet fuels and other densified biomass fuel products from facilities that manufacture densified biomass fuel products, primarily pellet fuels, for energy applications. The data collected on Form EIA-63C are a primary source of information for the nation's growing production of biomass products for heating and electric power generation, and for use in both domestic and foreign markets.

(4a) Proposed Changes to Information Collection: There is a reduction in the number of survey respondents required to file EIA-63C reports. This reduces the annual estimated responses and associated burden hours. There is no change to the content collected on the EIA-63C.

(5) Annual Estimated Number of Respondents: 76;

(6) Annual Estimated Number of Total Responses: 912;

(7) Annual Estimated Number of Burden Hours: 1,277;

(8) Annual Estimated Reporting and Recordkeeping Cost Burden: The cost of the burden hours is estimated to be $116,411 (1,277 burden hours times $91.16 per hour). EIA estimates that there are no additional costs to respondents associated with the survey other than the costs associated with the burden hours.

Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

Statutory Authority: 15 U.S.C. 772(b) and 42 U.S.C. 7101 et seq.

Signed in Washington, DC, on February 15, 2024.
Samson A. Adeshiyan,
Director, Office of Statistical Methods and Research, U.S. Energy Information Administration.

[FR Doc. 2024-03530 Filed 2-21-24; 8:45 am]

BILLING CODE 6450-01-P